DEPARTMENT OF DEFENSE

Department of the Navy

Notice of Intent To Grant Exclusive Patent License; Epitracker, Inc.

AGENCY: Department of the Navy, DoD.

ACTION: Notice.

SUMMARY: The Department of the Navy hereby gives notice of its intent to grant to Epitracker, Inc. a revocable, nonassignable, exclusive license to practice the Government-Owned inventions described in the following U.S. Patent Applications: U.S. Patent Application No. 14/591660 (Navy Case No. 103395; U.S. Patent No. 9561206) titled “Use of Heptadecanoic Acid (C17:0) to Detect Risk of and Treat Hyperferritinemia and Metabolic Syndrome”; U.S. Patent Application No. 14/980304 (Navy Case No. 103856) titled “Heptadecanoic Acid Supplement to Human Diet”; U.S. Patent Application No. 14/980695 (Navy Case No. 103854) titled “Method for Detecting Risk Factor for Metabolic Syndrome or Hyperferritinemia”; U.S. Patent Application No. 14/981130 (Navy Case No. 103855) titled “Method for Treating Metabolic Syndrome”; U.S. Patent Application No. 15/030031 (Navy Case No. 105202) titled “Compositions and methods for diagnosis and treatment of metabolic syndrome”; U.S. Patent Application No. 15/393771 (Navy Case No. 104602) titled “Compositions and methods for diagnosis and treatment of anemia”; and U.S. Patent Application No. 15/393799 (Navy Case No. 105245) titled “Compositions and methods for diagnosis and treatment of inflammation”; as well as any patent issuing thereon, any corresponding foreign patent applications and any foreign patent issuing thereon, and any re-issue, substitution, continuation (but not a continuation-in-part), or division thereof (to the extent that the inventions in the applications are claimed in the parent application on the effective date of the license.)

DATES: Anyone wishing to object to the grant of this license has fifteen (15) days from the publication date of this notice to file written objections along with supporting evidence, if any.

ADDRESSES: Written objections are to be filed with the Office of Research and Technology Applications, Space and Naval Warfare Systems Center Pacific, Code 72120, 53560 Hull St., Bldg. A33, Room 2531, San Diego, CA 92152-5001.

FOR FURTHER INFORMATION CONTACT: Mr. Paul Herbert, Office of Research and Technology Applications, Space and Naval Warfare Systems Center Pacific, Code 72120, 53560 Hull St., Bldg. A33, Room 2308, San Diego, CA 92152-5001, telephone 619-553-5118, or paul.a.herbert@navy.mil.

Authority: 35 U.S.C. 209(e), 37 CFR part 404.7

Dated: March 27, 2017.
A.M. Nichols,
Lieutenant Commander, Judge Advocate General's Corps, U.S. Navy, Federal Register Liaison Officer.

[FR Doc. 2017-06454 Filed 3-31-17; 8:45 am]

BILLING CODE 3810-FF-P